ENVIRONMENTAL PROTECTION AGENCY

[FRL-8736-7]

Clean Air Act Operating Permit Program; Decision on Reconsideration of Petition to Object to Title V Permit for Reliant Portland Generating Station, Upper Mount Bethel Township, Northampton County, PA

AGENCY: Environmental Protection Agency (EPA).

ACTION: Notice of action denying reconsideration of final order on petition to object to state operating permit.

SUMMARY: Pursuant to the Clean Air Act (CAA), the EPA Administrator signed an order, dated June 20, 2007, denying a petition to object to a state operating permit proposed to be issued by the Pennsylvania Department of Environmental Protection (PADEP) to Reliant Energy Mid-Atlantic Power Holdings, LLC, for its Portland Generating Station in Northampton County, Pennsylvania. On September 24, 2008, the Administrator signed a letter denying the request of the petitioner, the New Jersey Department of Environmental Protection (NJDEP), that EPA reconsider the June 20, 2007 Order.

FOR FURTHER INFORMATION CONTACT: Kathleen Anderson, Chief, Permits and Technical Assessment Branch, Air Protection Division, EPA Region III (3AP11), telephone (215) 814-2173; e-mail anderson.kathleen@epa.gov.

SUPPLEMENTARY INFORMATION:

I. How Can I Get Copies of This Document and Other Related Information?

Copies of the final order, the petition, the NJDEP letter seeking reconsideration, the Administrator's letter denying the reconsideration, and all pertinent information relating thereto are on file at the following location: Environmental Protection Agency, Region III, Air Protection Division (APD), 1650 Arch St., Philadelphia, Pennsylvania 19103. The Administrator's letter is also available electronically at the following Web site: http://www.epa.gov/region07/programs/artd/air/title5/petitiondb/petitiondb.htm.

II. Background

The Clean Air Act affords EPA a 45-day period to review and object to, as appropriate, operating permits proposed by state permitting authorities. Section 505(b)(2) of the CAA authorizes any person to petition the EPA Administrator within 60 days after the expiration of this review period to object to a state operating permit if EPA has not done so. EPA received a petition from the NJDEP, dated July 21, 2006, requesting that EPA object to the issuance of the proposed title V permit for the Reliant Portland Generating Station. By Order dated June 20, 2007, the Administrator responded by denying NJDEP's petition. On September 14, 2007, the Attorney General of New Jersey, on behalf of NJDEP, simultaneously filed an appeal of the Administrator's Order in the United States Court of Appeals for the Third Circuit and sent a letter to EPA seeking reconsideration of the Administrator's Order. The Court of Appeals stayed the appeal until September 26, 2008, to allow EPA an opportunity to respond to the motion for reconsideration of the Order. By letter dated September 24, 2008, the Administrator responded by denying reconsideration. The letter explains the reasons for denying NJDEP's request for reconsideration.

III. Judicial Review

Section 307(b)(1) of the Clean Air Act indicates which Federal Courts of Appeals have venue for petitions for review of final actions by EPA. For final actions which are not nationally applicable, Section 307(b)(1) provides that appeals shall be filed in the United States Court of Appeals for the appropriate circuit. The denial of New Jersey's motion for reconsideration of the Administrator's Order denying New Jersey's request that EPA object to the issuance of a state operating permit to the Reliant Portland Generating Station is a final action which is not nationally applicable. The Third Circuit Court of Appeals is the appropriate court of appeals. As noted above, New Jersey has already filed an appeal of the Administrator's June 20, 2007 Order in the U.S. Court of Appeals for the Third Circuit. Section 307(b)(1) also requires that any petition for review must be filed within sixty (60) days from the date that this Notice is published in the Federal Register.

Dated: October 17, 2008.
Donald S. Welsh,
Regional Administrator, Region III.

[FR Doc. E8-25910 Filed 10-29-08; 8:45 am]

BILLING CODE 6560-50-P